DEPARTMENT OF VETERANS AFFAIRS

[OMB Control No. 2900-0321]

Agency Information Collection Activities Under OMB Review

AGENCY: Veterans Benefits Administration, Department of Veterans Affairs.

ACTION: Notice.

SUMMARY: In compliance with the Paperwork Reduction Act (PRA) of 1995 (44 U.S.C., 3501 et seq.), this notice announces that the Veterans Benefits Administration (VBA), Department of Veterans Affairs, has submitted the collection of information abstracted below to the Office of Management and Budget (OMB) for review and comment. The PRA submission describes the nature of the information collection and its expected cost and burden; it includes the actual data collection instrument.

DATE: Comments must be submitted on or before May 18, 2000.

FOR FURTHER INFORMATION OR A COPY OF THE SUBMISSION CONTACT: Denise McLamb, Information Management Service (045A4), Department of Veterans Affairs, 810 Vermont Avenue, NW, Washington, DC 20420, (202) 273-8135 or FAX (202) 273-5981. Please refer to “OMB Control No. 2900-0321.”

SUPPLEMENTARY INFORMATION: Title: Appointment of Veterans Service Organization as Claimant's Representative, VA Form 21-22.

OMB Control Number: 2900-0321.

Type of Review: Revision of a currently approved collection.

Abstract: The form is used by VA beneficiaries to appoint any one of a number of recognized service organizations to represent them in the prosecution of their VA claims. The information is used to determine who has access to the beneficiary's claim file. In addition, it determines who has the right to receive copies of correspondence from VA to the beneficiary. VA may recognize representatives of service organizations to assist beneficiaries in the prosecution of VA claims, but no individual shall be recognized unless such individual has filed a power of attorney, executed in a manner prescribed by VA.

An agency may not conduct or sponsor, and a person is not required to respond to a collection of information unless it displays a currently valid OMB control number. The Federal Register Notice with a 60-day comment period soliciting comments on this collection of information was published on January 25, 2000 at pages 4017 and 4018.

Affected Public: Individuals or households.

Estimated Annual Burden: 27,083 hours.

Estimated Average Burden Per Respondent: 5 minutes.

Frequency of Response: On occasion.

Estimated Number of Respondents: 325,000.

Send comments and recommendations concerning any aspect of the information collection to VA's OMB Desk Officer, Allison Eydt, OMB Human Resources and Housing Branch, New Executive Office Building, Room 10235, Washington, DC 20503 (202) 395-4650. Please refer to “OMB Control No. 2900-0321” in any correspondence.

Dated: March 4, 2000.
By direction of the Secretary.
Donald L. Neilson,
Director, Information Management Service.

[FR Doc. 00-9605 Filed 4-17-00; 8:45 am]

BILLING CODE 8320-01-P